DEPARTMENT OF TRANSPORTATION

Pipeline and Hazardous Materials Safety Administration

[Docket No. PHMSA-2025-0012]

Pipeline Safety: Information Collection Activities

AGENCY: Pipeline and Hazardous Materials Safety Administration (PHMSA), DOT.

ACTION: Notice and request for comments.

SUMMARY: In compliance with the Paperwork Reduction Act of 1995 (44 U.S.C. 3501 et seq.), this notice announces that the two information collection requests abstracted below are being forwarded to the Office of Management and Budget (OMB) for review and comment. A Federal Register notice with a 60-day comment period soliciting comments on the information collections was published on May 7, 2025.

DATES: Interested persons are invited to submit comments on or before September 2, 2025.

ADDRESSES: The public is invited to submit comments regarding these information collection requests, including suggestions for reducing the burden, to Office of Management and Budget (OMB), Attention: Desk Officer for the Office of the Secretary of Transportation, 725 17th Street NW, Washington, DC 20503. Comments can also be submitted electronically at www.reginfo.gov/public/do/PRAMain.

FOR FURTHER INFORMATION CONTACT: Angela Hill by email at angela.hill@dot.gov.

SUPPLEMENTARY INFORMATION:

I. Background

Title 5, Code of Federal Regulations (CFR) section 1320.8(d), requires the Pipeline and Hazardous Materials Safety Administration (PHMSA) to provide interested members of the public and affected agencies the opportunity to comment on information collection and recordkeeping requests before they are submitted to OMB for approval. In accordance with this regulation, on May 7, 2025, PHMSA published a Federal Register notice (90 FR 19369) with a 60-day comment period soliciting comments on its intent to request OMB's renewed approval of the two information collection requests that are due to expire on November 30, 2025.

During the 60-day comment period, PHMSA received no comments pertaining to the proposed renewal of the impacted information collections.

II. Summary of Impacted Collections

PHMSA will request a three-year term of approval for each of the following information collection activities. The following information is provided for each information collection: (1) Title of the information collection; (2) OMB control number; (3) Current expiration date; (4) Type of request; (5) Abstract of the information collection activity; (6) Description of affected public; (7) Estimate of total annual reporting and recordkeeping burden; and (8) Frequency of collection.

PHMSA requests comments on the following:

1. Title: “Rupture Mitigation Valve Recordkeeping Requirements”.

OMB Control Number: 2137-0637.

Current Expiration Date: 11/30/2025.

Abstract: Operators who have experienced a rupture or rupture-mitigation valve shut-off are required to complete a post-incident review. The post-incident summary, all investigation and analysis documents used to prepare it, and records of lessons learned must be kept for the life of the pipeline.

Operators must also develop written rupture identification procedures to evaluate and identify whether a notification of potential rupture is an actual rupture event or non-rupture event as soon as practicable. These procedures must, at a minimum, specify the sources of information, operational factors, and other criteria that operator personnel use to evaluate a notification of potential rupture. Operators are also required to maintain certain records if they experience certain circumstances involving their rupture-mitigation valve operations.

Affected Public: Operators of PHMSA-regulated pipelines.

Annual Reporting and Recordkeeping Burden:

Total Annual Responses: 4,213.

Total Annual Burden Hours: 85,724.

Frequency of Collection: On occasion.

2. Title: “Rupture Mitigation Valve Notification Requirements”.

OMB Control Number: 2137-0638.

Current Expiration Date: 11/30/2025.

Abstract: 49 CFR 192.634 and 49 CFR 195.418 require operators who elect to use alternative equivalent technology to notify PHMSA's Office of Pipeline Safety at least 90 days in advance of use. An operator choosing this option must include a technical and safety evaluation, including design, construction, and operating procedures for the alternative equivalent technology with the notification.

Operators must notify PHMSA if a rupture-mitigation valve cannot be made operational within 14 days of installation. Operators must also notify PHMSA if a valve cannot be repaired or replaced within 12 months.

An operator may seek exemption from certain regulatory requirements by notifying PHMSA in certain instances. An operator may plan to leave a rupture-mitigation valve open for more than 30 minutes following a rupture identification if the operator demonstrates to PHMSA, that closing a rupture mitigation valve, or alternative equivalent technology, would be detrimental to public safety. Likewise, for hazardous liquid pipeline segments in a non-high consequence area (HCA) or a non-HCA could-affect segment, an operator may request exemption from certain requirements if it can demonstrate to PHMSA that installing an otherwise-required rupture-mitigation valve, or alternative equivalent technology, would be economically, technically, or operationally infeasible.

Affected Public: Operators of PHMSA-regulated pipelines.

Annual Reporting and Recordkeeping Burden:

Total Annual Responses: 598.

Total Annual Burden Hours: 2,378.

Frequency of Collection: On occasion.

Comments are invited on:

(a) The need for this information collections for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended, and 49 CFR 1.48.

Issued in Washington, DC, on July 29, 2025, under authority delegated in 49 CFR 1.97.
John A. Gale,
Director, Standards and Rulemaking Division.

[FR Doc. 2025-14505 Filed 7-30-25; 8:45 am]

BILLING CODE 4910-60-P